DEPARTMENT OF EDUCATION

[CFDA No. 84.033]

Student Financial Assistance, Federal Perkins Loan Program, Federal Work-Study Program, and Federal Supplemental Opportunity Grant Program

AGENCY: Department of Education.

ACTION: Notice of the closing date for submission of the Campus-Based Reallocation Form (ED Form E40-4P).

SUMMARY: The Secretary gives notice that institutions in the campus-based programs (Federal Perkins Loan Program, Federal Work-Study (FWS) Programs, and Federal Supplemental Opportunity Grant Program) that wish to return any unused 2000-2001 Federal funds or wish to request supplemental 2001-2002 FWS funds for community service must submit the Campus-Based Reallocation Form prior to midnight, Eastern time, on August 24, 2001, via the Department's Student Aid Internet Gateway (formerly Title IV Wide Area Network or Title IV WAN). The information collected on the Campus-Based Reallocation Form is used to determine the Federal funds available for supplemental awards and the campus-based institutions that are eligible and wish to receive supplemental 2001-2002 FWS funds for community service.

DATES: Closing Date and Method for Submitting a Campus-Based Reallocation Form. Institutions in the campus-based programs that wish to return any unused 2000-2001 Federal funds or wish to request supplemental 2001-2002 FWS funds for community service must submit the Campus-Based Reallocation Form prior to midnight, Eastern time, on August 24, 2001, via the Department's Student Aid Internet Gateway.

The Campus-Based Reallocation Form is located in the Fiscal Operations Report for 2000-2001 and Application to Participate for 2002-2003 (FISAP) software that is available for download at: www.sfadownload.ed.gov.

Additional information about the reallocation process is provided in a “Dear Partner” letter that is available at: www.ifap.ed.gov.

SUPPLEMENTARY INFORMATION: We will reallocate unexpended Federal funds from the 2000-2001 award year as supplemental allocations for the 2001-2002 award year under all of the campus-based programs. Supplemental allocations will be issued this fall in accordance with the reallocation procedures in the Higher Education Act of 1965, as amended (HEA). Under section 442(d) of the HEA, unexpended FWS Federal funds returned to the Secretary must be reallocated to eligible institutions that used at least 5 percent of the total 2000-2001 FWS Federal funds granted to the institution to compensate students employed as reading tutors of children or in family literacy activities as part of its community services activities. Because reallocated FWS Federal funds will be distributed on the basis of fair share shortfall criteria, you also must have a fair share shortfall to receive these funds. A fair share shortfall means that you have an unmet need for FWS funds as determined by the FWS allocation formula in the HEA that uses data reported on the FISAP. You must use all of the reallocated FWS Federal funds to compensate students employed in community services. To ensure consideration for supplemental FWS funds for the 2001-2002 award year, you must submit the Campus-Based Reallocation Form data by August 24, 2001, via the Department's Student Aid Internet Gateway.

Applicable Regulations

The following regulations apply to the campus-based programs:

(1) Student Assistance General Provisions, 34 CFR part 668.

(2) General Provisions for the Federal Perkins Loan Program, Federal Work-Study Program, and Federal Supplemental Educational Opportunity Grant Program, 34 CFR part 673.

(3) Federal Work-Study Programs, 34 CFR part 675.

(4) Institutional Eligibility Under the Higher Education Act of 1965, as Amended, 34 CFR part 600.

(5) New Restrictions on Lobbying, 34 CFR part 82.

(6) Governmentwide Debarment and Suspension (Nonprocurement) and Governmentwide Requirements for Drug-Free Workplace (Grants), 34 CFR part 85.

(7) Drug and Alcohol Abuse Prevention, 34 CFR part 86.

FOR FURTHER INFORMATION CONTACT: For technical assistance concerning the Campus-Based Reallocation Form or other operational procedures of the campus-based programs, contact Campus-Based Operations, Schools Channel, U.S. Department of Education, Portals Building, Suite 600D, 1250 Maryland Avenue, SW., Washington, DC 20202-5453. Telephone (202) 708-7741. If you use a telecommunications device for the deaf (TDD), you may call the Federal Information Relay Service (FIRS) at 1-800-877-8339.

Individuals with disabilities may obtain this document in an alternative format (e.g., Braille, large print, audiotape or computer diskette) by contacting the Alternative Format Center, Mary E. Switzer Building, 330 C Street, SW., Washington, DC 20202-4560. Telephone (202) 260-9895 between 8:30 a.m. and 4:30 p.m., Eastern time, Monday through Friday.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 42 U.S.C. 2752.

Dated: July 20, 2001.
Greg Woods,
Chief Operating Officer, Student Financial Assistance.

[FR Doc. 01-18611 Filed 7-25-01; 8:45 am]

BILLING CODE 4000-01-U